Proclamation 7374 of November 9, 2000

Vermilion Cliffs National Monument

By the President of the United States of America

A Proclamation

Amid the sandstone slickrock, brilliant cliffs, and rolling sandy plateaus of the Vermilion Cliffs National Monument lie outstanding objects of scientific and historic interest. Despite its arid climate and rugged isolation, the monument contains a wide variety of biological objects and has a long and rich human history. Full of natural splendor and a sense of solitude, this area remains remote and unspoiled, qualities that are essential to the protection of the scientific and historic objects it contains.

The monument is a geological treasure. Its centerpiece is the majestic Paria Plateau, a grand terrace lying between two great geologic structures, the East Kaibab and the Echo Cliffs monoclines. The Vermilion Cliffs, which lie along the southern edge of the Paria Plateau, rise 3,000 feet in a spectacular escarpment capped with sandstone underlain by multicolored, actively eroding, dissected layers of shale and sandstone. The stunning Paria River Canyon winds along the east side of the plateau to the Colorado River. Erosion of the sedimentary rocks in this 2,500 foot deep canyon has produced a variety of geologic objects and associated landscape features such as amphitheaters, arches, and massive sandstone walls.

In the northwest portion of the monument lies Coyote Buttes, a geologically spectacular area where crossbeds of the Navajo Sandstone exhibit colorful banding in surreal hues of yellow, orange, pink, and red caused by the precipitation of manganese, iron, and other oxides. Thin veins or fins of calcite cut across the sandstone, adding another dimension to the landscape. Humans have explored and lived on the plateau and surrounding canyons for thousands of years, since the earliest known hunters and gatherers crossed the area 12,000 or more years ago. Some of the earliest rock art in the Southwest can be found in the monument. High densities of Ancestral Puebloan sites can also be found, including remnants of large and small villages, some with intact standing walls, fieldhouses, trails, granaries, burials, and camps.

The monument was a crossroad for many historic expeditions. In 1776, the Dominguez-Escalante expedition of Spanish explorers traversed the monument in search of a safe crossing of the Colorado River. After a first attempt at crossing the Colorado near the mouth of the Paria River failed, the explorers traveled up the Paria Canyon in the monument until finding a steep hillside they could negotiate with horses. This took them out of the Paria Canyon to the east and up into the Ferry Swale area, after which they achieved their goal at the Crossing of the Fathers east of the monument. Antonio Armijo's 1829 Mexican trading expedition followed the Dominguez route on the way from Santa Fe to Los Angeles.

Later, Mormon exploring parties led by Jacob Hamblin crossed south of the Vermilion Cliffs on missionary expeditions to the Hopi villages. Mormon pioneer John D. Lee established Lee's Ferry on the Colorado River just south of the monument in 1871. This paved the way for homesteads in the monument, still visible in remnants of historic ranch structures and associated objects that tell the stories of early settlement. The route taken by the Mormon explorers along the base of the Paria Plateau would later become known as the Old Arizona Road or Honeymoon Trail. After the temple in St. George, Utah was completed in 1877, the Honeymoon Trail was used by Mormon couples who had already been married by civil authorities in the Arizona settlements, but also made the arduous trip to St. George to have their marriages solemnized in the temple. The settlement of the monument area by Mormon pioneers overlapped with another historic exploration by John Wesley Powell, who passed through the monument during his scientific surveys of 1871.

The monument contains outstanding biological objects that have been preserved by remoteness and limited travel corridors. The monument's vegetation is a unique combination of cold desert flora and warm desert grassland, and includes one threatened species, Welsh's milkweed. This unusual plant, known only in Utah and Arizona, colonizes and stabilizes shifting sand dunes, but is crowded out once other vegetation encroaches.

Despite sporadic rainfall and widely scattered ephemeral water sources, the monument supports a variety of wildlife species. At least twenty species of raptors have been documented in the monument, as well as a variety of reptiles and amphibians. California condors have been reintroduced into the monument in an effort to establish another wild population of this highly endangered species. Desert bighorn sheep, pronghorn antelope, mountain lion, and other mammals roam the canyons and plateaus. The Paria River supports sensitive native fish, including the flannelmouth sucker and the speckled dace.

Section 2 of the Act of June 8, 1906 (34 Stat. 225, 16 U.S.C. 431) authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Vermilion Cliffs National Monument:

NOW, THEREFORE, I, William J. Clinton, President of the United States of America, by the authority vested in me by section 2 of the Act of June 8, 1906 (34 Stat. 225, 16 U.S.C. 431), do proclaim that there are hereby set apart and reserved as the Vermilion Cliffs National Monument, for the purpose of protecting the objects identified above, all lands and interests in lands owned or controlled by the United States within the boundaries of the area described on the map entitled “Vermilion Cliffs National Monument” attached to and forming a part of this proclamation. The Federal land and interests in land reserved consist of approximately 293,000 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. For the purpose of protecting the objects identified above, the Secretary shall prohibit all motorized and mechanized vehicle use off road, except for emergency or authorized administrative purposes.

Lands and interests in lands within the proposed monument not owned by the United States shall be reserved as a part of the monument upon acquisition of title thereto by the United States.

The Secretary of the Interior shall manage the monument through the Bureau of Land Management, pursuant to applicable legal authorities, to implement the purposes of this proclamation.

The Secretary of the Interior shall prepare a transportation plan that addresses the actions, including road closures or travel restrictions, necessary to protect the objects identified in this proclamation.

The establishment of this monument is subject to valid existing rights.

Nothing in this proclamation shall be deemed to enlarge or diminish the jurisdiction of the State of Arizona with respect to fish and wildlife management.

This proclamation does not reserve water as a matter of Federal law. Nothing in this reservation shall be construed as a relinquishment or reduction of any water use or rights reserved or appropriated by the United States on or before the date of this proclamation. The Secretary shall work with appropriate State authorities to ensure that any water resources needed for monument purposes are available.

Laws, regulations, and policies followed by the Bureau of Land Management in issuing and administering grazing permits or leases on all lands under its jurisdiction shall continue to apply with regard to the lands in the monument.

Nothing in this proclamation shall be deemed to revoke any existing withdrawal, reservation, or appropriation; however, the national monument shall be the dominant reservation. Warning is hereby given to all unauthorized persons not to appropriate, injure, destroy, or remove any feature of this monument and not to locate or settle upon any of the lands thereof.

IN WITNESS WHEREOF, I have hereunto set my hand this ninth day of November, in the year of our Lord two thousand, and of the Independence of the United States of America the two hundred and twenty-fifth.

wj

Billing code 3195-01-P

[FR Doc. 00-29453

Filed 11-14-00; 8:46 am]

Billing code 3195-01-C